DEPARTMENT OF ENERGY

Federal Energy Regulatory Commission

[Project No. 12632-002]

East Texas Electric Cooperative, Inc., Texas; Notice of Availability of Environmental Assessment

February 2, 2011.

In accordance with the National Environmental Policy Act of 1969 and the Federal Energy Regulatory Commission's (Commission or FERC's) regulations, 18 Code of Federal Regulations (CFR) part 380 (Order No. 486, 52 Federal Register [FR] 47897), the Office of Energy Projects has reviewed East Texas Electric Cooperative, Inc.'s (the Cooperative's) application for license for the Lake Livingston Hydroelectric Project (FERC Project No. 12632-002), located on the Trinity River near the city of Livingston, in San Jacinto, Polk, Trinity, and Walker counties. The project would not occupy any federal lands.

Staff prepared an environmental assessment (EA) that analyzes the potential environmental effects of licensing the project, and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov, or toll-free at 1-866-208-3676, or for TTY, 202-502-8659. You may also register online at http://www.ferc.gov/docs-filing/esubscription.asp to be notified via e-mail of new filings and issuances related to this or other pending projects. For assistance, contact FERC Online Support.

For further information, contact Sarah Florentino at (202) 502-6863, or by e-mail at sarah.florentino@ferc.gov.

Kimberly D. Bose,
Secretary.

[FR Doc. 2011-2804 Filed 2-8-11; 8:45 am]

BILLING CODE 6717-01-P